DEPARTMENT OF ENERGY

Federal Energy Regulatory Commission

[Project No. 13212-005]

Kenai Hydro, LLC; Notice of Technical Meeting

a. Project Name and Number: Grant Lake Hydroelectric Project No. 13212.

b. Date and Time of Meeting: November 1, 2016; 8:00 a.m.—12:00 p.m., AKDT.

c. Place: Teleconference.

d. FERC Contact: Kenneth Hogan, Kenneth.Hogan@ferc.gov .

e. Purpose of Meeting: Commission Staff is hosting a Technical Meeting(s) in an effort to seek resolution of conflicts between the proposed Grant Lake Hydroelectric Project and the Iditarod National Historic Trail.

f. A stenographer will record the technical meeting, and meeting transcripts will be placed into the Commission's public record for the proceeding.

g. All local, state, and federal agencies, Indian tribes, interested non-governmental organizations, and other interested parties are invited to participate.

h. Access to the teleconference will be provided upon an emailed request to the FERC Contact in Item d above.

Dated: October 11, 2016.
Kimberly D. Bose,
Secretary.

[FR Doc. 2016-25029 Filed 10-14-16; 8:45 am]

BILLING CODE 6717-01-P